DEPARTMENT OF STATE

[Public Notice 4395]

Bureau of Nonproliferation; Partial Lifting of Administrative Measure Imposed on the Scientific Research and Design Institute of Power Technology, aka NIKIET, To Permit U.S. Government Contractors To Receive Certain Information

AGENCY: Department of State.

ACTION: Notice.

SUMMARY: A determination has been made, pursuant to section 6 of Executive Order 12938, as amended, to lift in part the import sanction that had been imposed on the Scientific Research and Design Institute of Power Technology, aka NIKIET under a January 8, 1999, determination, for the sole purpose of permitting personnel of U.S. government contractors to receive information that may have been produced or provided by NIKIET at a June 24, 2003 seminar concerning the Kursk 5 RBMK reactor.

EFFECTIVE DATE: June 24, 2003.

FOR FURTHER INFORMATION CONTACT: On general issues: Warren Stern, Senior Coordinator for Nuclear Safety, Bureau of Nonproliferation, Department of State, (202-647-6425). On import ban issues: Office of Foreign Assets Control, Department of the Treasury, (202-622-2500).

SUPPLEMENTARY INFORMATION: Pursuant to the authorities vested in the President by the Constitution and the laws of the United States of America, including the International Emergency Economic Powers Act (50 U.S.C. 1701 et seq.) (“IEEPA”), the National Emergencies Act (50 U.S.C. 1601 et seq.), the Arms Export Control Act (22 U.S.C. 2751 et seq.), and section 301 of title 3, United States Code, and section 6 of Executive Order 12938, as amended, a determination was made on June 24, 2003 that it is in the foreign policy and national security interests of the United States to lift in part the import sanction imposed January 8, 1999 (64 FR 2935) on the Scientific Research and Design Institute of Power Technology, aka NIKIET for the sole purpose of authorizing U.S. government contractors to receive information that may have been produced or provided by the Scientific Research and Design Institute of Power Technology, aka NIKIET, at a June 24, 2003 seminar concerning the Kursk 5 RBMK reactor.

July 2, 2003.
Andrew K. Semmel,
Acting Assistant Secretary of State for Nonproliferation, Department of State.

[FR Doc. 03-17479 Filed 7-9-03; 8:45 am]

BILLING CODE 4710-27-P